DEPARTMENT OF JUSTICE

Antitrust Division

Notice Pursuant to the National Cooperative Research and Production Act of 1993—INS Global Learning Consortium, Inc.

Notice is hereby given that, on December 16, 2010, pursuant to Section 6(a) of the National Cooperative Research and Production Act of 1993, 15 U.S.C. 4301 et seq. (“the Act”), INS Global Learning Consortium, Inc. has filed written notifications simultaneously with the Attorney General and the Federal Trade Commission disclosing changes in its membership. The notifications were filed for the purpose of extending the Act's provisions limiting the recovery of antitrust plaintiffs to actual damages under specified circumstances. Specifically, OCAD University, Toronto, Ontario, CANADA; Library Video Company, Wynnewood, PA; SMART Technologies, Calgary, Alberta, CANADA; and University of Kent, Kent, UNITED KINGDOM, have been added as parties to this venture.

Also, Marist College, Poughkeepsie, NY; University of Mary Washington, Fredericksburg, VA; and SUNY Delhi, Delhi, NY, have withdrawn as parties to this venture.

No other changes have been made in either the membership or planned activity of the group research project. Membership in this group research project remains open, and INS Global Learning Consortium, Inc. intends to file additional written notifications disclosing all changes in membership.

On April 7, 2000, IMS Global Learning Consortium, Inc. filed its original notification pursuant to Section 6(a) of the Act. The Department of Justice published a notice in the Federal Register pursuant to Section 6(b) of the Act on September 13, 2000 (75 FR 55283).

The last notification was filed with the Department on September 30, 2010. A notice was published in the Federal Register pursuant to Section 6(b) of the Act on October 29, 2010 (75 FR 66791).

Patricia A. Brink,
Director of Civil Enforcement, Antitrust Division.

[FR Doc. 2011-78 Filed 1-7-11; 8:45 am]

BILLING CODE 4410-11-M